DEPARTMENT OF ENERGY

Federal Energy Regulatory Commission

Combined Notice of Filings

Take notice that the Commission has received the following Natural Gas Pipeline Rate and Refund Report filings:

Filings Instituting Proceedings

Docket Numbers: RP12-820-000.

Applicants: Texas Gas Transmission, LLC.

Description: Demand Charge Credits filing to be effective 8/1/2012.

Filed Date: 6/27/12.

Accession Number: 20120627-5033.

Comments Due: 5 p.m. ET 7/9/12.

Docket Numbers: RP12-822-000.

Applicants: Gulf South Pipeline Company, LP.

Description: Tenaska 39395-3 Amendment to Neg Rate Agmt to be effective 7/1/2012.

Filed Date: 6/28/12.

Accession Number: 20120628-5032.

Comments Due: 5 p.m. ET 7/10/12.

Docket Numbers: RP12-823-000.

Applicants: Gulf South Pipeline Company, LP.

Description: Tenaska 39396-3 Amendment to Neg Rate Agmt to be effective 7/1/2012.

Filed Date: 6/28/12.

Accession Number: 20120628-5033.

Comments Due: 5 p.m. ET 7/10/12.

Docket Numbers: RP12-824-000.

Applicants: Gulf South Pipeline Company, LP.

Description: Devon 34694-36 Amendment to Neg Rate Agmt to be effective 7/1/2012.

Filed Date: 6/28/12.

Accession Number: 20120628-5034.

Comments Due: 5 p.m. ET 7/10/12.

Docket Numbers: RP12-825-000.

Applicants: Gulf South Pipeline Company, LP.

Description: HK 37731 to Sequent 39986 Cap Rel Neg Rate Agmt filing to be effective 7/1/2012.

Filed Date: 6/28/12.

Accession Number: 20120628-5042.

Comments Due: 5 p.m. ET 7/10/12.

Docket Numbers: RP12-826-000.

Applicants: Gulf South Pipeline Company, LP.

Description: HK 37733 to Texla 39987 Cap Rel Neg Rate Agmt filing to be effective 7/1/2012.

Filed Date: 6/28/12.

Accession Number: 20120628-5043.

Comments Due: 5 p.m. ET 7/10/12.

Docket Numbers: RP12-827-000.

Applicants: Algonquin Gas Transmission, LLC.

Description: Non-conforming Agreements Cleanup Filing—June 2012 to be effective 8/1/2012.

Filed Date: 6/28/12.

Accession Number: 20120628-5044.

Comments Due: 5 p.m. ET 7/10/12.

Docket Numbers: RP12-828-000.

Applicants: Gulf South Pipeline Company, LP.

Description: HK 37731 to Texla 39988 Cap Rel Neg Rate Agmt filing to be effective 7/1/2012.

Filed Date: 6/28/12.

Accession Number: 20120628-5045.

Comments Due: 5 p.m. ET 7/10/12.

Docket Numbers: RP12-829-000.

Applicants: Gulf South Pipeline Company, LP.

Description: HK 37731 to Texla 39989 Cap Rel Neg Rate Agmt filing to be effective 7/1/2012.

Filed Date: 6/28/12.

Accession Number: 20120628-5046.

Comments Due: 5 p.m. ET 7/10/12.

Docket Numbers: RP12-830-000.

Applicants: Dominion South Pipeline Company, LP.

Description: DSP—2012 Report of Penalty Revenues.

Filed Date: 6/29/12.

Accession Number: 20120629-5031.

Comments Due: 5 p.m. ET 7/11/12.

Docket Numbers: RP12-831-000.

Applicants: Texas Eastern Transmission, LP.

Description: EPC AUG 2012 FILING to be effective 8/1/2012.

Filed Date: 6/29/12.

Accession Number: 20120629-5033.

Comments Due: 5 p.m. ET 7/11/12.

Docket Numbers: RP12-832-000.

Applicants: ANR Pipeline Company.

Description: ANR Pipeline Company submits tariff filing per 154.601: Twin Eagle Neg Rate to be effective 7/1/2012.

Filed Date: 6/29/12.

Accession Number: 20120629-5035.

Comments Due: 5 p.m. ET 7/11/12.

Docket Numbers: RP12-833-000.

Applicants: NGO Transmission, Inc.

Description: NGO Transmission—Filing to Update Contact Information to be effective 8/1/2012.

Filed Date: 6/29/12.

Accession Number: 20120629-5037.

Comments Due: 5 p.m. ET 7/11/12.

Docket Numbers: RP12-834-000.

Applicants: Northern Natural Gas Company.

Description: 20120629 Mieco Inc Negotiated Rate to be effective 7/1/2012.

Filed Date: 6/29/12.

Accession Number: 20120629-5038.

Comments Due: 5 p.m. ET 7/11/12.

Docket Numbers: RP12-835-000.

Applicants: Equitrans, L.P.

Description: CP11-68 Sunrise Compliance Filing—Negotiated Rate Agreements to be effective 8/1/2012.

Filed Date: 6/29/12.

Accession Number: 20120629-5043.

Comments Due: 5 p.m. ET 7/11/12.

Docket Numbers: RP12-836-000.

Applicants: MarkWest Pioneer, L.L.C.

Description: MarkWest Pioneer—Update to Preliminary Statement and System Map to be effective 8/1/2012.

Filed Date: 6/29/12.

Accession Number: 20120629-5048.

Comments Due: 5 p.m. ET 7/11/12.

Docket Numbers: RP12-837-000.

Applicants: Big Sandy Pipeline, LLC.

Description: Big Sandy EPC 2012 to be effective 8/1/2012 .

Filed Date: 6/29/12.

Accession Number: 20120629-5056.

Comments Due: 5 p.m. ET 7/11/12.

Docket Numbers: RP12-838-000.

Applicants: Granite State Gas Transmission, Inc.

Description: Granite State Gas Transmission, Inc. Section 4 Rate Filing to be effective 8/1/2012.

Filed Date: 6/29/12.

Accession Number: 20120629-5057.

Comments Due: 5 p.m. ET 7/11/12.

Docket Numbers: RP12-838-000.

Applicants: Granite State Gas Transmission, Inc.

Description: Supplement filing to support proposed tariff filing made on 6/29/12 by Granite State Gas Transmission, Inc.

Filed Date: 6/29/12.

Accession Number: 20120629-5227.

Comments Due: 5 p.m. ET 7/11/12.

Docket Numbers: RP12-839-000.

Applicants: Gulf South Pipeline Company, LP.

Description: EOG 34687-9 Amendment to Neg Rate Agmt filing to be effective 7/1/2012.

Filed Date: 6/29/12.

Accession Number: 20120629-5066.

Comments Due: 5 p.m. ET 7/11/12.

Docket Numbers: RP12-840-000.

Applicants: Ruby Pipeline, L.L.C.

Description: EPC and Fuel Rate Adjustment Filing 6/28/12 to be effective 7/1/2012.

Filed Date: 6/29/12

Accession Number: 20120629-5115.

Comments Due: 5 p.m. ET 7/11/12.

Docket Numbers: RP12-842-000.

Applicants: Northwest Pipeline GP.

Description: RP12-Non-Conforming Changes, Effective August 1, 2012 to be effective 8/1/2012.

Filed Date: 6/29/12.

Accession Number: 20120629-5164.

Comments Due: 5 p.m. ET 7/11/12.

Docket Numbers: RP12-843-000.

Applicants: Columbia Gulf Transmission Company.

Description: Gas Processing to be effective 8/1/2012.

Filed Date: 6/29/12.

Accession Number: 20120629-5196.

Comments Due: 5 p.m. ET 7/11/12.

Docket Numbers: RP12-844-000.

Applicants: Gulf Crossing Pipeline Company LLC.

Description: Antero 2 to Tenaska 550 Cap Rel Neg Rate Agmt filing to be effective 7/1/2012.

Filed Date: 6/29/12.

Accession Number: 20120629-5198.

Comments Due: 5 p.m. ET 7/11/12.

Docket Numbers: RP12-845-000.

Applicants: ANR Pipeline Company.

Description: PFSA Revisions and Housekeeping to be effective 8/1/2012.

Filed Date: 6/29/12.

Accession Number: 20120629-5202.

Comments Due: 5 p.m. ET 7/11/12.

Docket Numbers: RP12-846-000.

Applicants: Colorado Interstate Gas Company LLC.

Description: Off System Receipt to Delivery Balancing to be effective 8/1/2012.

Filed Date: 6/29/12.

Accession Number: 20120629-5246.

Comments Due: 5 p.m. ET 7/11/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated July 2, 2012.
Nathaniel J. Davis, Sr.,
Deputy Secretary

[FR Doc. 2012-16687 Filed 7-6-12; 8:45 am]

BILLING CODE 6717-01-P